DEPARTMENT OF TRANSPORTATION

National Highway Traffic Safety Administration

49 CFR Parts 571, 572 and 598

[Docket No. NHTSA-2004-17694; NHTSA-2004-18864]

RIN 2127-AJ10; 2127-AI89

Federal Motor Vehicle Safety Standards; Side Impact Protection; Anthropomorphic Test Devices; ES-2re Side Impact Crash Test Dummy

AGENCY: National Highway Traffic Safety Administration (NHTSA), Department of Transportation.

ACTION: Reopening of comment periods; request for comment on addendum to initial regulatory flexibility analysis.

SUMMARY: This document reopens the comment period on a notice of proposed rulemaking (NPRM) to amend Federal Motor Vehicle Safety Standard (FMVSS) No. 214, “Side Impact Protection,” to add a dynamic pole test to the standard, and on an NPRM on adding specifications and qualification requirements for a new mid-size adult male crash test dummy for use in the pole test. The agency is taking this action in response to a petition from the Alliance of Automobile Manufacturers requesting additional time to submit comments. The agency is reopening the comment period for 90 days. This document also informs readers that the agency will be placing in the docket an addendum to an initial regulatory flexibility analysis (IRFA) relating to the proposed addition of the dynamic pole test to FMVSS No. 214. Comments are requested on the addendum.

DATES: Comments to docket numbers NHTSA-2004-17694 published May 17, 2004 (69 FR 27990), and NHTSA-2004-18864 published September 15, 2004 (69 FR 55550), and on the addendum to the IRFA (Docket No. 17694), must be received by April 12, 2005.

ADDRESSES: You may submit comments (identified by the DOT DMS Docket Number) by any of the following methods:

Web Site: http://dms.dot.gov. Follow the instructions for submitting comments on the DOT electronic docket site.

Fax: 1-202-493-2251.

Mail: Docket Management Facility; U.S. Department of Transportation, 400 Seventh Street, SW., Nassif Building, Room PL-401, Washington, DC 20590-001. Hand Delivery: Room PL-401 on the plaza level of the Nassif Building, 400 Seventh Street, SW., Washington, DC, between 9 a.m. and 5 p.m., Monday through Friday, except Federal Holidays.

Federal eRulemaking Portal: Go to http://www.regulations.gov. Follow the online instructions for submitting comments.

Instructions: All submissions must include the agency name and docket number or Regulatory Identification Number (RIN) for the rulemaking to which you are commenting. For detailed instructions on submitting comments and additional information on the rulemaking process, see the Public Participation heading of the SUPPLEMENTARY INFORMATION section of this document. Note that all comments received will be posted without change to http://dms.dot.gov, including any personal information provided. Please see the Privacy Act discussion under the Public Participation heading.

Docket: For access to the docket to read background documents or comments received, go to http://dms.dot.gov at any time or to Room PL-401 on the plaza level of the Nassif Building, 400 Seventh Street, SW, Washington, DC, between 9 a.m. and 5 p.m., Monday through Friday, except Federal Holidays.

FOR FURTHER INFORMATION CONTACT: Dr. William Fan, NHTSA Office of Crashworthiness Standards (202) 366-4922), or Deirdre Fujita, NHTSA Office of Chief Counsel (telephone (202) 366-2992; fax (202) 366-3820). Both of these officials may be reached at 400 Seventh St., SW., Washington, DC 20590.

SUPPLEMENTARY INFORMATION: In May 2004, NHTSA published a notice of proposed rulemaking that proposed to upgrade FMVSS No. 214, “Side Impact Protection,” by requiring that all passenger vehicles with a gross vehicle weight rating of 4,536 kilograms (10,000 pounds) or less protect front seat occupants against head, thoracic, abdominal and pelvic injuries in a vehicle-to-pole test simulating a vehicle crashing sideways into narrow fixed objects like telephone poles and trees (69 FR 27990, May 17, 2004; Docket 2004-17694). The NPRM proposed that compliance with the pole test would be determined in tests using a new, second-generation test dummy representing mid-size adult males (the “ES-2re” crash test dummy) and a new test dummy representing small adult females (the “SID-IIsFRG” test dummy). The NPRM also proposed using the new dummies in the standard's existing vehicle-to-vehicle test that uses a moving deformable barrier (MDB) to simulate a moving vehicle being struck in the side by another moving vehicle. NHTSA provided a 150-day comment period for the proposal, which closed October 14, 2004.

Publication of NPRMs to add specifications and qualification requirements for the ES-2re and SID-IIsFRG crash test dummies to 49 CFR Part 572 (NHTSA's regulation on anthropomorphic test devices) followed the FMVSS No. 214 proposal. A proposal for the ES-2re was published September 15, 2004 (69 FR 55550; Docket No. 18864). The comment period for that NPRM closed November 15, 2004. An NPRM proposing specifications and qualification requirements for the SID-IIsFRG test dummy was published on December 8, 2004 (69 FR 70947; Docket No. 18865). A 90-day comment period was provided.

Petition

The Alliance of Automobile Manufacturers (Alliance) petitioned the agency to re-open the comment period for the FMVSS No. 214 NPRM for at least an additional eight months. The Alliance believed that the ES-2re and SID-IIsFRG test dummies were not available in sufficient quantities for member companies to assess the proposed pole test procedures. The Alliance indicated that dummy manufacturers were not able to supply the test dummies in response to manufacturers' demand. The petitioner stated that eight months is needed to provide sufficient time for Alliance members to complete dummy component tests (the petitioner estimated that three to four months is needed for this); to undertake vehicle tests (the petitioner suggested this would take another three to four months); and to analyze data and draft their comments (petitioner stated those steps would take another one to two months).

The Alliance also petitioned to extend the comment period for the ES-2re NPRM for eight months. The petitioner stated that it needs the time to facilitate a comprehensive technical evaluation of the dummy and perform fleet testing, and that the eight months would align the comment closing date with that requested by the Alliance for the FMVSS No. 214 NPRM. The petitioner believed that the 150-day comment period provided for the May 2004 FMVSS No. 214 NPRM contrasts with a nine-month comment period that NHTSA provided in 1988 when the agency proposed to adopt the MDB test into FMVSS No. 214.

Agency Decision

The agency is reopening the comment periods for the FMVSS No. 214 and the ES-2re NPRMs for 90 days. The 90 day period coincides with the comment period that the agency has provided for the SID-IIsFRG NPRM. We note that the ES-2re and SID-IIsFRG dummies were available following publication of the FMVSS No. 214 NPRM in May 2004 and that the 150 day comment period provided ample time for manufacturers to obtain and begin evaluating the test dummies and to perform fleet assessments. However, vehicle manufacturers did not know the calibration procedures and values that the agency was considering for the dummies' performance requirements until publication of the Part 572 NPRMs in September (ES-2re) and December 2004 (SID-IIsFRG). Reopening the comment period gives manufacturers time to assess the dummies' performance and to conduct fleet testing using the calibrated dummies.

NHTSA believes that a 90 day extension is sufficient and that providing 8 months is unwarranted. The Alliance stated that manufacturers need three to four months to do “component testing” of the dummies. We believe that component testing can be done in a matter of days or weeks rather than months. Also, calibration procedures were published for the ES-2re dummy in September and for the SID-IIsFRG in early December. We also estimate that six weeks is sufficient for conducting vehicle tests and for evaluating the data, based on the agency's experience with testing vehicles under NHTSA's consumer information New Car Assessment Program (NCAP). We further estimate that drafting and submitting comments on this priority rulemaking can be done in less than a month. All told, this period amounts to not more than 3 months. A longer period would unnecessarily delay key decisions by NHTSA about the FMVSS No. 214 rulemaking and would delay the potential societal benefits associated with a final rule.

It is noted that the 90 day period does not even include the period that has passed since the closing dates of the comment periods for the FMVSS No. 214 and ES-2re NPRMs (October 14, 2004 and November 15, 2005, respectively). From those dates until today, manufacturers could have been and presumably were working on dummy and vehicle assessment. Thus, as a practicable matter, more than 90 days has been provided. It is further noted that the agency will consider late comments to the extent possible.

The 8-month period that the Alliance requested is too long. The petitioner has not explained how the manufacturers have been using the 150 day comment period of the FMVSS No. 214 NPRM to respond to the proposal. Information obtained by NHTSA from the two dummy manufacturers indicate that they were able to fill orders of the SID-IIsFRG and ES-2re dummies and of the conversion kits (converting a SID-IIs to the SID-IIsFRG by the addition of the floating rib guide modifications and an ES-2 to an ES-2re by addition of the rib extensions) within a reasonable time. One manufacturer shipped full dummies or conversion kits within nine days on the average from receipt of order, while the other needed less than 8 weeks for full dummies and 4 weeks for kits. The agency is not convinced that a good faith effort to obtain the test dummies went unheeded by the dummy manufacturers.

We further disagree with the petitioner's view that an 8 month extension is supported by the agency's decision in 1988 to provide a 9 month comment period for the NPRM on the MDB test. The comment period for that rulemaking was extraordinarily long because it was the first time that a full scale dynamic impact test had been proposed for FMVSS No. 214. In contrast, a pole test with an instrumented dummy, substantially similar to the test proposed in the May 2004 NPRM, is already an option being used in FMVSS No. 201, “Occupant protection in interior impact,” and manufacturers are thus familiar with the protocol. Also, the deformable barrier was a new test device with its own properties, and was much more complex than the rigid pole used in the pole test. In addition, there were three new test dummies under consideration in the MDB rulemaking to represent a 50th percentile adult male: General Motors supported the BioSID; the European community supported the EuroSID; and NHTSA supported the SID. The three dummies had different characteristics and new injury criteria, each of which had to be individually considered. In contrast, the May 2004 NPRM only proposes the ES-2re as the 50th percentile male test dummy used in the NPRM. Not only is this the sole test dummy proposed as the representative device for the mid-size male, all vehicle manufacturers were familiar with the dummy through use of the ES-2 in vehicle development and NCAP-type programs in Europe, Japan and Australia. In light of these facts, reopening the comment period for an additional 8 months is unwarranted.

Accordingly, the public comment closing dates for DOT Docket Nos. 17694 and 18864 are reopened for 90 days as indicated in the DATES section of this document.

Addendum to Initial Regulatory Flexibility Analysis

NHTSA is preparing an addendum to the initial regulatory flexibility analysis (IRFA) that was contained in the Preliminary Economic Assessment (PEA) for the May 17, 2004 NPRM on FMVSS No. 214. The addendum will be placed in Docket No. 17694. (The PEA is the first entry in Docket No. 17694). The addendum to the IRFA discusses the economic impacts on small vehicle manufacturers, of which there are four. Comments are requested on the addendum to the IRFA. Comments should be submitted to Docket. No. 17694 within the comment period reopened by today's Federal Register document.

Public Participation

How Do I Prepare and Submit Comments?

Your comments must be written and in English. To ensure that your comments are correctly filed in the Docket, please include the appropriate docket number in your comments.

Your comments must not be more than 15 pages long. (49 CFR 553.21). NHTSA established this limit to encourage you to write your primary comments in a concise fashion. However, you may attach necessary additional documents to your comments. There is no limit on the length of the attachments.

Please submit two copies of your comments, including the attachments, to Docket Management at the address given above under ADDRESSES.

You may also submit your comments to the docket electronically by logging onto the Dockets Management System website at http://dms.dot.gov. Click on “Help & Information” or “Help/Info” to obtain instructions for filing the document electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR Part 512.)

Will the Agency Consider Late Comments?

NHTSA will consider all comments that Docket Management receives before the close of business on the comment closing date indicated above under DATES. To the extent possible, the agency will also consider comments that Docket Management receives after that date. If Docket Management receives a comment too late for the agency to consider it in developing a final rule (assuming that one is issued), the agency will consider that comment as an informal suggestion for future rulemaking action.

How Can I Read the Comments Submitted by Other People?

You may read the comments received by Docket Management at the address given above under ADDRESSES. The hours of the Docket are indicated above in the same location.

You may also see the comments on the Internet. To read the comments on the Internet, take the following steps:

1. Go to the Docket Management System (DMS) Web page of the Department of Transportation (http://dms.dot.gov/).

2. On that page, click on “search.”

3. On the next page (http://dms.dot.gov/search/), type in the five-digit docket number shown at the beginning of this document. Example: If the docket number were “NHTSA-2004-12345,” you would type “12345.” After typing the docket number, click on “search.”

4. On the next page, which contains docket summary information for the docket you selected, click on the desired comments. You may download the comments. Although the comments are imaged documents, instead of word processing documents, the “pdf” versions of the documents are word searchable.

Please note that even after the comment closing date, NHTSA will continue to file relevant information in the Docket as it becomes available. Further, some people may submit late comments. Accordingly, the agency recommends that you periodically check the Docket for new material.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 U.S.C. 322, 30111, 30115, 30117 and 30166; delegation of authority at 49 CFR 1.50.

Issued on January 5, 2005.
Stephen R. Kratzke,
Associate Administrator for Rulemaking.

[FR Doc. 05-548 Filed 1-11-05; 8:45 am]

BILLING CODE 4910-59-U